DEPARTMENT OF HEALTH AND HUMAN SERVICES

Food and Drug Administration

[Docket No. FDA-2016-N-0832]

Phibro Animal Health Corp.; Carbadox in Medicated Swine Feed; Opportunity for Hearing; Correction

AGENCY: Food and Drug Administration, HHS.

ACTION: Notice of opportunity for hearing; correction.

SUMMARY: The Food and Drug Administration (FDA) is correcting a notice that appeared in the Federal Register on April 12, 2016 (81 FR 21559). The document announced an opportunity for a hearing on FDA's Center for Veterinary Medicine's proposal to withdraw approval of all new animal drug applications providing for use of carbadox in medicated swine feed and contained an incorrect telephone number for the individual to be contacted for further information. The address for Phibro Animal Health Corp. was also incorrect. This document corrects those errors.

FOR FURTHER INFORMATION CONTACT: Vernon Toelle, Center for Veterinary Medicine (HFV-234), 7519 Standish Pl., Rockville, MD 20855, 240-402-7001.

SUPPLEMENTARY INFORMATION: In FR Doc. 2016-08327, appearing on page 21559 in the Federal Register of Tuesday, April 12, 2016, the following corrections are made:

1. On page 21560, in the second column, in the FOR FURTHER INFORMATION CONTACT paragraph, the telephone number is corrected to read “240-402-7001”.

2. On page 21560, in the third column, in the first paragraph, the address for Phibro Animal Health Corp. is corrected to read “GlenPointe Centre East, 3d floor, 300 Frank W. Burr Blvd., suite 21, Teaneck, NJ 07666”.

3. On page 21572, in the first column, in the third paragraph, the address for Phibro Animal Health Corp. is corrected to read “GlenPointe Centre East, 3d floor, 300 Frank W. Burr Blvd., suite 21, Teaneck, NJ 07666”.

Dated: April 18, 2016.
Tracey Forfa,
Acting Director, Center for Veterinary Medicine.

[FR Doc. 2016-09265 Filed 4-20-16; 8:45 am]

BILLING CODE 4164-01-P